DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Madison (FEMA Docket No: B-7727) | City of Huntsville (06-04-BT85P) | June 22, 2007; June 29, 2007; Madison County Record | The Honorable Loretta Spencer, Mayor, City of Huntsville, P.O. Box 308, Huntsville, Alabama 35804 | September 28, 2007 | 010153
Madison (FEMA Docket No: B-7727) | City of Madison (06-04-BT85P) | June 22, 2007; June 29, 2007; Madison County Record | The Honorable Sandy Kirkindall, Mayor, City of Madison, 100 Hughes Road, Madison, Alabama 35758 | September 28, 2007 | 010308
Montgomery (FEMA Docket No: B-7738) | City of Montgomery (07-04-2575P) | August 9, 2007; August 16, 2007; The Montgomery Advertiser | The Honorable Bobby N. Bright, Mayor, City of Montgomery, P.O. Box 1111, Montgomery, AL 36101 | July 25, 2007 | 010174
Montgomery (FEMA Docket No: B-7738) | Unincorporated areas of Montgomery County (07-04-2575P) | August 9, 2007; August 16, 2007; The Montgomery Advertiser | The Honorable Todd Strange, Chairman, Montgomery County Board of Commissioners, 100 South Lawrence Street, Montgomery, AL 36104 | July 25, 2007 | 010278
Arizona:
Maricopa (FEMA Docket No: B-7727) | City of Mesa (07-09-0549P) | June 14, 2007; June 21,2007; Arizona Business Gazette | The Honorable Keno Hawker, Mayor, City of Mesa, P.O. Box 1466, Mesa, Arizona 85211-1466 | September 20, 2007 | 040048
Pima (FEMA Docket No: B-7738) | Town of Marana (06-09-BA80P) | July 19, 2007; July 26, 2007; Arizona Daily Star | The Honorable Ed Honea, Mayor, Town of Marana, Marana Municipal Complex, 11555 West Civic Center Drive, Marana, AZ 85653 | July 5, 2007 | 040118
Pima (FEMA Docket No: B-7727) | City of Tucson (07-09-0707P) | June 21, 2007; June 28, 2007; The Daily Territorial | The Honorable Bob Walkup, Mayor, City of Tucson, P.O. Box 27210, Tucson, Arizona 85726 | June 4, 2007 | 040076
Yavapai (FEMA Docket No: B-7738) | Town of Prescott Valley (07-09-0558P) | July 19, 2007; July 26, 2007; Prescott Daily Courier | The Honorable Harvey Skoog, Mayor, Town of Prescott Valley, 7501 East Civic Circle, Prescott Valley, AZ 86314 | October 25, 2007 | 040121
Yavapai (FEMA Docket No: B-7727) | Unincorporated areas of Yavapai County (06-09-BA63P) | June 21, 2007; June 28, 2007; Prescott Daily Courier | The Honorable Chip Davis, Chairman, Yavapai County Board of Supervisors, 10 South Sixth Street, Cottonwood, Arizona 86326 | September 27, 2007 | 040093
Yavapai (FEMA Docket No: B-7738) | Unincorporated areas of Yavapai County (07-09-0558P) | July 19, 2007; July 26, 2007; Prescott Daily Courier | The Honorable Chip Davis, Chairman, Yavapai County Board of Supervisors, 10 South Sixth Street, Cottonwood, AZ 86326 | October 25, 2007 | 040093
Yavapai (FEMA Docket No: B-7738) | Unincorporated areas of Yavapai County (07-09-0736P) | July 19, 2007; July 26, 2007; Prescott Daily Courier | The Honorable Chip Davis, Chairman, Yavapai County Board of Commissioners, 10 South Sixth Street, Cottonwood, AZ 86326 | June 27, 2007 | 040093
California:
Contra Costa (FEMA Docket No: B-7738) | City of Pittsburg (06-09-BG10P) | August 9, 2007; August 16, 2007; Contra Costa Times | The Honorable Ben Johnson, Mayor, City of Pittsburg, 65 Civic Avenue, Pittsburg, CA 94565 | November 15, 2007 | 060033
Orange (FEMA Docket No: B-7738) | City of Huntington Beach (07-09-1170P) | August 16, 2007; August 23, 2007; Huntington Beach Independent | The Honorable Gil Coerper, Mayor, City of Huntington Beach, 2000 Main Street, Huntington Beach, CA 92648 | July 30, 2007 | 065034
Sacramento (FEMA Docket No: B-7738) | Unincorporated areas of Sacramento County (06-09-BF61P) | August 16, 2007; August 23, 2007; The Daily Recorder | The Honorable Don Nottoli, Chair, Sacramento County Board of Supervisors, 700 H Street, Suite 2450, Sacramento, CA 95814 | November 22, 2007 | 060262
Santa Barbara (FEMA Docket No: B-7738) | Unincorporated areas of Santa Barbara County (07-09-0164P) | July 19, 2007; July 26, 2007; Santa Barbara News-Press | The Honorable Brooks Firestone, Chairman, Santa Barbara County Board of Supervisors, 105 East Anapamu Street, Santa Barbara, CA 93101 | October 25, 2007 | 060331
Sonoma (FEMA Docket No: B-7738) | Town of Windsor (07-09-1484X) | July 12, 2007; July 19, 2007; The Press Democrat | The Honorable Steve Allen, Mayor, Town of Windsor, P.O. Box 100, Windsor, CA 95492 | October 18, 2007 | 060761
Colorado: Broomfield (FEMA Docket No: B-7738) | City and County of Broomfield (07-08-0461P) | July 18, 2007; July 25, 2007; The Broomfield Enterprise | The Honorable Karen Stuart, Mayor, City and County of Broomfield, One DesCombe Drive, Broomfield, CO 80020 | June 29, 2007 | 085073
Georgia:
Columbia (FEMA Docket No: B-7738) | Unincorporated areas of Columbia County (07-04-1277P) | July 18, 2007; July 25, 2007; Columbia County News-Times | The Honorable Ron C. Cross, Chairman, Columbia County Board of Commissioners, P.O. Box 498, Evans, GA 30809 | October 24, 2007 | 130059
Columbia (FEMA Docket No: B-7738) | Unincorporated areas of Columbia County (07-04-1923P) | July 18, 2007; July 25, 2007; Columbia County News-Times | The Honorable Ron Cross, Chairman, Columbia County Board of Commissioners, 908 Nerium Trail, Evans, GA 30809 | October 24, 2007 | 130059
Gwinnett (FEMA Docket No: B-7738) | Unincorporated areas of Gwinnett County (07-04-3457P) | August 16, 2007; August 23, 2007; Gwinnett Daily Post | The Honorable Charles Bannister, Chairman, Gwinnett County Board of Commissioners, 75 Langley Drive, Lawrenceville, GA 30045 | November 22, 2007 | 130322
Illinois:
Cook (FEMA Docket No: B-7727) | City of Chicago (07-05-1665P) | June 21, 2007; June 28, 2007; Daily Herald | The Honorable Richard M. Daley, Mayor, City of Chicago, 121 North La Salle Street, Room 504, Chicago, Illinois 60602 | July 2, 2007 | 170074
Cook (FEMA Docket No: B-7727) | City of Des Plaines (07-05-1665P) | June 21, 2007; June 28, 2007; Daily Herald | The Honorable Anthony Arredia, Mayor, City of Des Plaines, 1420 Miner Street, Des Plaines, Illinois 60016 | July 2, 2007 | 170081
Cook (FEMA Docket No: B-7727) | Village of Rosemont (07-05-1665P) | June 21, 2007; June 28, 2007; Daily Herald | The Honorable Donald Stephens, President, Village of Rosemont, 9501 West Devon Avenue, Rosemont, Illinois 60018 | July 2, 2007 | 170156
Cook (FEMA Docket No: B-7727) | Unincorporated Areas of Cook County (07-05-1665P) | June 21, 2007; June 28, 2007; Daily Herald | The Honorable Todd H. Stroger, President, Cook County Board of Commissioners, 118 North Clark Street, Room 537, Chicago, Illinois 60602 | July 2, 2007 | 170054
De Kalb (FEMA Docket No: B-7738) | City of De Kalb (05-05-2302P) | July 19, 2007; July 26, 2007; The Daily Chronicle | The Honorable Frank Van Buer, Mayor, City of De Kalb, 200 South Fourth Street, Room 203, De Kalb, IL 60115 | October 25, 2007 | 170182
Indiana:
Allen (FEMA Docket No: B-7727) | Unincorporated Areas of Allen County (07-05-2787P) | June 21, 2007; June 28, 2007; Journal Gazette | The Honorable Linda K. Bloom, County Administrator, Allen County Board of Commissioners, City-County Building, One East Main Street, Room 200, Fort Wayne, Indiana 46802 | September 27, 2007 | 180302
Lake (FEMA Docket No: B-7727) | Town of St. John (06-05-BA28P) | June 21, 2007; June 28, 2007; Post-Tribune | The Honorable Michael S. Fryzel, President, Town Council, Town of St. John, 10955 West 93rd Avenue, St. John, Indiana 46373 | May 29, 2007 | 180141
Kansas:
Johnson (FEMA Docket No: B-7738) | City of Overland Park (07-07-0902P) | July 26, 2007; August 2, 2007; Johnson County Sun | The Honorable Carl R. Gerlach, Mayor, City of Overland Park, City Hall, 8500 Santa Fe Drive, Overland Park, KS 66212 | June 29, 2007 | 200174
Johnson (FEMA Docket No: B-7738) | City of Overland Park (07-07-1220P) | July 19, 2007; July 26, 2007; Johnson County Sun | The Honorable Carl Gerlach, Mayor, City of Overland Park, City Hall, 8500 Santa Fe Drive, Overland Park, KS 66212 | June 25, 2007 | 200174
Johnson (FEMA Docket No: B-7738) | Unincorporated areas of Johnson County (07-07-0902P) | July 26, 2007; August 2, 2007; Johnson County Sun | The Honorable Annabeth Surbaugh, Chairman, Johnson County Board of Commissioners, 111 South Cherry Street, Suite 3300, Olathe, KS 66061-3441 | June 29, 2007 | 200159
Kentucky:
Oldham (FEMA Docket No: B-7738) | City of Crestwood (07-04-1746P) | August 16, 2007; August 23, 2007; The Oldham Era | The Honorable Dennis L. Deibel, Mayor, City of Crestwood, P.O. Box 186, Crestwood, KY 40014 | November 22, 2007 | 210027
Oldham (FEMA Docket No: B-7738) | Unincorporated areas of Oldham County (07-04-1746P) | August 16, 2007; August 23, 2007; The Oldham Era | The Honorable Duane Murner, Oldham County Judge/Executive, 100 West Jefferson Street, LaGrange, KY 40031 | November 22, 2007 | 210185
Maine: Lincoln (FEMA Docket No: B-7738) | Town of South Bristol (07-01-0772P) | August 16, 2007; August 23, 2007; The Lincoln County News | The Honorable Kenneth Lincoln, Chairman of Selectmen, Town of South Bristol, 470 Clarks Cove Road, South Bristol, ME 04573 | July 31, 2007 | 230220
Maryland: Frederick (FEMA Docket No: B-7738) | Unincorporated areas of Frederick County (07-03-0394P) | August 16, 2007; August 23, 2007; The Frederick News-Post | The Honorable John L. Thompson, Jr., Commissioner, County of Frederick, Winchester Hall, 12 East Church Street, Frederick, MD 21701 | November 22, 2007 | 240027
Michigan:
Macomb (FEMA Docket No: B-7738) | Charter Township of Clinton (07-05-2289P) | July 20, 2007; July 27, 2007; Macomb County Legal News | The Honorable Robert J. Cannon, Township Supervisor, Charter Township of Clinton, 40700 Romeo Plank Road, Clinton Township, MI 48038 | July 6, 2007 | 260121
Oakland (FEMA Docket No: B-7738) | City of Rochester Hills (06-05-BQ14P) | July 13, 2007; July 20, 2007; Oakland County Legal News | The Honorable James Rosen, Mayor, City of Rochester Hills, 1000 Rochester Hills Drive, Rochester Hills, MI 48309 | June 19, 2007 | 260471
Minnesota:
Marshall (FEMA Docket No: B-7738) | City of Warren (07-05-1900P) | July 18, 2007; July 25, 2007; Warren Sheaf | The Honorable Bob Kliner, Mayor, City of Warren, 120 East Bridge Avenue, Warren, MN 56762 | June 27, 2007 | 270274
Marshall (FEMA Docket No: B-7738) | Unincorporated areas of Marshall County (07-05-1900P) | July 19, 2007; July 26, 2007; Messenger | The Honorable Sharon Bring, Chairman, Marshall County Board of Commissioners, County Courthouse, 208 East Colvin Avenue, Warren, MN 56762-1693 | October 25, 2007 | 270638
Missouri:
Greene (FEMA Docket No: B-7727) | Unincorporated areas of Greene County (07-07-0395P) | June 21, 2007; June 28, 2007; Springfield News-Leader | The Honorable David Coonrod, Presiding Commissioner, Greene County Board of Commissioners, 933 North Roberson, Springfield, Missouri 65802 | September 27, 2007 | 290782
St. Charles (FEMA Docket No: B-7738) | City of Dardenne Prairie (07-07-0177P) | August 15, 2007; August 22, 2007; St. Charles Journal | The Honorable Pam Fogarty, Mayor, City of Dardenne Prairie, 7137 Scotland Drive, Dardenne Prairie, MO 63368 | November 21, 2007 | 290899
St. Charles (FEMA Docket No: B-7738) | City of O'Fallon (07-07-0177P) | August 15, 2007; August 22, 2007; St. Charles Journal | The Honorable Donna Morrow, Mayor, City of O'Fallon, 633 Hawk Run Drive, O'Fallon, MO 63366 | November 21, 2007 | 290316
St. Charles (FEMA Docket No: B-7738) | Unincorporated areas of St. Charles County (07-07-0177P) | August 15, 2007; August 22, 2007; St. Charles Journal | The Honorable Steve Ehlmann, County Executive, St. Charles County, 201 North Second Street, St. Charles, MO 63301 | November 21, 2007 | 290315
St. Louis (FEMA Docket No: B-7727) | City of Chesterfield (06-07-B058P) | July 12, 2007; July 19, 2007; The St. Louis Daily Record | The Honorable John Nations, Mayor, City of Chesterfield, 690 Chesterfield Parkway West, Chesterfield, Missouri 63017-0670 | August 23, 2007 | 290896
St. Louis (FEMA Docket No: B-7738) | City of Chesterfield (06-07-BA27P) | August 2, 2007; August 9, 2007; The St. Louis Daily Record | The Honorable John Nations, Mayor, City of Chesterfield, Chesterfield City Hall, 690 Chesterfield Parkway West, Chesterfield, MO 63017-0760 | November 8, 2007 | 290896
St. Louis (FEMA Docket No: B-7738) | City of Maryland Heights (06-07-B058P) | July 12, 2007; July 19, 2007; The St. Louis Daily Record | The Honorable Mike Moeller, Mayor, City of Maryland Heights, 212 Millwell Drive, Maryland Heights, MO 63043 | August 23, 2007 | 290889
St. Louis (FEMA Docket No: B-7727) | Unincorporated Area of St. Louis County (06-07-B058P) | July 12, 2007; July 19, 2007; The St. Louis Daily Record | The Honorable Charlie A. Dooley, County Executive, St. Louis County, 41 South Central Avenue, Clayton, Missouri 63105 | August 23, 2007 | 290327
New Mexico:
Bernalillo (FEMA Docket No: B-7738) | City of Albuquerque (07-06-1930P) | August 2, 2007; August 9, 2007; The Albuquerque Journal | The Honorable Martin J. Chavez, Mayor, City of Albuquerque, P.O. Box 1293, Albuquerque, NM 87103 | July 24, 2007 | 350002
Bernalillo (FEMA Docket No: B-7738) | Unincorporated areas of Bernalillo County (07-06-1930P) | August 2, 2007; August 9, 2007; The Albuquerque Journal | Mr. Thaddeus Lucero, County Manager, Bernalillo County, One Civic Plaza Northwest, Albuquerque, NM 87102 | July 24, 2007 | 350001
Chaves (FEMA Docket No: B-7727) | City of Roswell (06-06-B007P) | June 28, 2007; July 5, 2007; Roswell Daily Record | The Honorable Sam D. LaGrone, Mayor, City of Roswell, P.O. Box 1837, Roswell, New Mexico 88202 | October 4, 2007 | 350006
Chaves (FEMA Docket No: B-7727) | Unincorporated Areas of Chaves County (06-06-B007P) | June 28, 2007; July 5, 2007; Roswell Daily Record | Mr. Stanton Riggs, County Manager, Chaves County, P.O. Box 1817, Roswell, New Mexico 88202 | October 4, 2007 | 350125
Ohio:
Butler (FEMA Docket No: B-7727) | City of Fairfield (07-05-2018P) | June 21, 2007; Middletown Journal June 28, 2007; Journal News | The Honorable Ron D'Epifanio, Mayor, City of Fairfield, 5350 Pleasant Avenue, Fairfield, Ohio 45014 | September 27, 2007 | 390038
Montgomery (FEMA Docket No: B-7738) | City of Brookville (07-05-1072P) | July 28, 2007; August 4, 2007; Centerville-Bellbrook Times | The Honorable David E. Seagraves, Mayor, City of Brookville, P.O. Box 10, Brookville, OH 45309 | November 5, 2007 | 390407
Warren (FEMA Docket No: B-7727) | City of Mason (07-05-1898P) | June 21, 2007; June 28, 2007; The Pulse-Journal | The Honorable Charlene Pelfrey, Mayor, City of Mason, 6000 Mason-Montgomery Road, Mason, Ohio 45040 | September 27, 2007 | 390559
Tennessee: Rutherford (FEMA Docket No: B-7738) | City of Murfreesboro (06-04-C283P) | April 26, 2007; May 3, 2007; Daily News Journal | The Honorable Tommy Bragg, Mayor, City of Murfreesboro, 111 West Vine Street, Murfreesboro, TN 37130 | August 2, 2007 | 470168
Texas:
Collin (FEMA Docket No: B-7738) | City of McKinney (06-06-BH77P) | August 16, 2007; August 23, 2007; McKinney Courier-Gazette | The Honorable Bill Whitfield, Mayor, City of McKinney, 222 North Tennessee, McKinney, TX 75069 | August 27, 2007 | 480135
Collin (FEMA Docket No: B-7738) | City of Plano (07-06-0841P) | July 5, 2007; July 12, 2007; Plano Star Courier | The Honorable Pat Evans, Mayor, City of Plano, 1520 Avenue K, Plano, TX 75074 | October 11, 2007 | 480140
Collin (FEMA Docket No: B-7738) | City of Wylie (07-06-0948P) | July 25, 2007; August 1, 2007; The Wylie News | The Honorable John Mondy, Mayor, City of Wylie, 2000 State Highway 78 North, Wylie, TX 75098 | June 28, 2007 | 480759
Comal (FEMA Docket No: B-7738) | Unincorporated areas of Comal County (07-06-0880P) | July 19, 2007; July 26, 2007; New Braunfels Herald-Zeitung | The Honorable Danny Scheel, Comal County Judge, 199 Main Plaza, New Braunfels, TX 78130 | October 26, 2007 | 485463
Denton (FEMA Docket No: B-7738) | City of Denton (07-06-0913P) | July 19, 2007; July 26, 2007; Denton Record-Chronicle | The Honorable Perry McNeill, Mayor, City of Denton, 215 East McKinney Street, Denton, TX 76201 | October 25, 2007 | 480194
Harris (FEMA Docket No: B-7738) | City of Houston (06-06-BG37P) | July 19, 2007; July 26, 2007; Houston Chronicle | The Honorable Bill White, Mayor, City of Houston, P.O. Box 1562, Houston, TX 77251 | July 30, 2007 | 480296
Harris (FEMA Docket No: B-7712) | Unincorporated areas of Harris County (06-06-B328P) | November 30, 2006; December 7, 2006; Houston Chronicle | The Honorable Robert Eckels, Harris County Judge, 1001 Preston, Suite 911, Houston, TX 77002 | October 30, 2006 | 480287
Medina (FEMA Docket No: B-7738) | Unincorporated areas of Medina County (07-06-0574P) | July 19, 2007; July 26, 2007; Hondo Anvil Herald | The Honorable James E. Barden, Medina County Judge, Medina County Courthouse, 1100 16th Street, Room 101, Hondo, TX 78861 | June 29, 2007 | 480472
Palo Pinto (FEMA Docket No: B-7738) | City of Mineral Wells (07-06-0680P) | July 19, 2007; July 26, 2007; Mineral Wells Index | The Honorable Clarence Holliman, Mayor, City of Mineral Wells, 115 Southwest First Street, Mineral Wells, TX 76068 | October 25, 2007 | 480517
Tarrant (FEMA Docket No: B-7738) | City of Fort Worth (07-06-1275P) | August 16, 2007; August 23, 2007; Fort Worth Star-Telegram | The Honorable Mike J. Moncrief, Mayor, City of Fort Worth, 1000 Throckmorton St., Fort Worth, TX 76102 | November 22, 2007 | 480596
Tarrant (FEMA Docket No: B-7738) | City of Keller (07-06-0822P) | July 20, 2007; July 27, 2007; The Southlake Journal | The Honorable Pat McGrail, Mayor, City of Keller, P.O. Box 770, Keller, TX 76244 | June 29, 2007 | 480602
Tarrant (FEMA Docket No: B-7738) | City of Southlake (07-06-0822P) | July 20, 2007; July 27, 2007; The Southlake Journal | The Honorable Andy Wambsganss, Mayor, City of Southlake, 1400 Main Street, Southlake, TX 76092 | June 29, 2007 | 480612
Utah: Salt Lake (FEMA Docket No: B-7738) | City of West Jordan (07-08-0330P) | August 9, 2007; August 16, 2007; Salt Lake Tribune | The Honorable David B. Newton, Mayor, City of West Jordan, 2555 West Carson Lane, West Jordan, UT 84084 | July 20, 2007 | 490108
Wisconsin:
La Crosse (FEMA Docket No: B-7738) | City of La Crosse (07-05-2077P) | July 19, 2007; July 26, 2007; The La Crosse Tribune | The Honorable Mark Johnsrud, Mayor, City of La Crosse, City Hall, 400 La Crosse Street, La Crosse, WI 54601 | June 29, 2007 | 555562
Racine (FEMA Docket No: B-7738) | Unincorporated areas of Racine County (07-05-1468P) | July 19, 2007; July 26, 2007; Journal Times | The Honorable William L. McReynolds, Racine County Executive, 730 Wisconsin Avenue, 10th Floor, Racine, WI 53403 | June 25, 2007 | 550347
Virginia: Roanoke (FEMA Docket No: B-7738) | City of Roanoke (07-03-0789P) | August 16, 2007; August 23, 2007; The Roanoke Times | The Honorable C. N. Harris, Mayor, City of Roanoke, 215 Church Avenue Southwest, Room 452, Roanoke, VA 24011 | September 29, 2007 | 510130

(Catalog of Federal Domestic Assistance No. 97.022, “Flood Insurance.”)

Dated: January 3, 2008.
David I. Maurstad,
Federal Insurance Administrator of the National Flood Insurance Program, Department of Homeland Security, Federal Emergency Management Agency.

[FR Doc. E8-700 Filed 1-15-08; 8:45 am]

BILLING CODE 9110-12-P